COMMITTEE FOR PURCHASE FROM PEOPLE WHO ARE BLIND OR SEVERELY DISABLED

Procurement List; Addition and Deletions

AGENCY: Committee for Purchase from People Who Are Blind or Severely Disabled.

ACTION: Addition to and deletions from Procurement List.

SUMMARY: This action adds to the Procurement List a product to be furnished by nonprofit agencies employing persons who are blind or have other severe disabilities, and deletes from the Procurement List services previously furnished by such agencies.

DATES: Effective Date: February 6, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Addition

On November 5, 2004, the Committee for Purchase From People Who Are Blind or Severely Disabled published notice (69 F.R. 64562) of proposed addition to the Procurement List.

The following comments pertain to Body Fluids Barrier Kit:

Comments were received from the current contractor for this kit and from a district office of the Small Business Administration (SBA). The contractor addressed the impact of this addition to the Procurement List on the contractor's business, and set forth technical reasons why it does not believe the designated nonprofit agency and its blind workers can produce the kit in accordance with Government technical and health requirements.

The contractor claimed that it would be severely impacted by this addition to the Procurement List because the addition would make the difference between a net profit and a net loss for the company. The contractor stated that it operates on a narrow profit margin because it reinvests most of its profits in the company. However, the Committee's measure of contractor impact, as stated at 41 CFR 51-2.4(a)(4), is the percentage of the contractor's total sales represented by this addition, with consideration being given to the length of time the contractor has held a Government contract for the kit. That percentage of sales is very small (less than one percent), so even taking into account the length of time the contractor has held a contract for the kit, the Committee does not consider this addition to the Procurement List to have a severe adverse impact on the contractor, particularly as the contractor may vary its profit level by changing its profit reinvestment pattern.

The contractor claimed that the kit requires an FDA 501(k) certification, along with Letters of Certification/Compliance for each component in the kit. However, these requirements apply to the manufacturers of the kit and its components, not to the assembler, which is what the nonprofit agency designated by the Committee will be doing. The contractor also claimed that specifications for the kit require 100 percent visual inspection of components and the assembly operation. However, the Contracting Officer has informed the Committee that there is no such inspection requirement. In addition, inspections will be performed by the nonprofit agency's quality control personnel. The Committee's law, at 41 U.S.C. 48b(5), excludes inspection from the definition of direct labor tasks which must be performed by blind individuals in this situation.

The contractor claimed that there is a long learning curve to manufacturing the kit, and that letting an inexperienced producer like the designated nonprofit agency have the contract would expose the Government customer to significant risks. As noted above, the nonprofit agency will only be assembling the kits, not manufacturing any part of them. The Government procuring activity has inspected the nonprofit agency and concluded that it is capable of performing all tasks necessary to assemble the kit. The nonprofit agency has experience in assembling a First Aid kit which is similar to the body fluids barrier kit being added to the Procurement List.

The SBA office stated that the Committee cannot add the kit to the Procurement List because the current contractor is a participant in SBA's 8(a) program, so the addition is prohibited by an agreement between SBA and NISH, one of the Committee's designated central nonprofit agencies. What the SBA office is actually referring to is a Committee policy by which the Committee will not add to the Procurement List items produced by a contractor which holds the Government contract for the item through the 8(a) program, until that contractor graduates from the 8(a) program. However, while the current contractor for the kit is a participant in the 8(a) program, its contract for the kit was not awarded under the 8(a) program, so the limitation on additions to the Procurement List expressed in the Committee policy is not applicable to this addition.

The following material pertains to the item being added to the Procurement List.

After consideration of the material presented to it concerning capability of qualified nonprofit agencies to provide the products and impact of the additions on the current or most recent contractors, the Committee has determined that the product listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

End of Certification

Accordingly, the following product is added to the Procurement List:

Product

Product/NSN: Body Fluids Barrier Kit, 6515-01-376-7247.

NPA: The Oklahoma League for the Blind, Oklahoma City, Oklahoma.

Contracting Activity: GSA, Southwest Supply Center, Fort Worth, Texas.

Deletions

On November 12, 2004, the Committee for Purchase From People Who Are Blind or Severely Disabled published notice (69 FR 65409) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Medical Transcription, 97th Medical Group, Altus AFB, Oklahoma.

NPA: New Vision Enterprises, Inc., Louisville, Kentucky.

Contracting Activity: Department of the Air Force.

Service Type/Location: Medical Transcription, Dwight D. Eisenhower, Veterans Affairs Medical Center, Leavenworth, Kansas.

NPA: New Vision Enterprises, Inc., Louisville, Kentucky.

Contracting Activity: Department of Veterans Affairs, Washington, DC.

Sheryl D. Kennerly,
Director, Information Management.

[FR Doc. 05-356 Filed 1-6-05; 8:45 am]

BILLING CODE 6353-01-U